DEPARTMENT OF AGRICULTURE

Agricultural Marketing Service

[Doc. No. AMS-FV-14-0104; FV-15-332]

Notice of Request for New Information Collection

AGENCY: Agricultural Marketing Service, USDA.

ACTION: Notice of request for new information.

SUMMARY: In accordance with the Paperwork Reduction Act of 1995 (44 U.S.C. Chapter 35), this notice announces the Agricultural Marketing Service's (AMS) intention to request approval, from the Office of Management and Budget, for NEW information collection for the Fruit and Vegetable Specialty Crops Inspection Division.

DATES: Comments on this notice must be received by September 28, 2015 to be assured of consideration.

Additional Information or Comments: Contact ToiAyna Thompson, Management Support Staff, Specialty Crops Inspection Division, Fruit and Vegetable Programs, U.S. Department of Agriculture, STOP 0247, 1400 Independence Ave. SW., telephone: (202) 720-0867 and FAX: (202) 690-3824; or Internet: http://www.regulations.gov.

SUPPLEMENTARY INFORMATION: Upon approval of this collection we will submit a request to merge this collection into the 0581-0125 Regulations Governing Inspection Certification of Fresh & Processed Fruits, Vegetables & Other Products 7 CFR part 51 & 52, approved on 8/16/2013.

Title: Specialty Crops Inspection Division Order Forms.

OMB Number: 0581—NEW.

Expiration Date of Approval: 3 years from approval.

Type of Request: New Information Collection with intent to merge with 0581-0125.

Abstract: The Agricultural Marketing Act of 1937, (7 U.S.C. 1621-1627) as amended authorizes the Agricultural Marketing Service, Specialty Crops Inspection Division to provide inspection and certification of the quality and condition of agricultural products. Specialty Crops Inspection Division provides a nationwide inspection, grading, and auditing service for fresh and processed fruits, vegetables and other products to shippers, importers, processors, sellers, buyers, and other financially interested parties on a “user fee” basis. The use of services is voluntary and is made available only upon request or when specified by some special program or contract. Information is needed to carry out the inspection, grading, or auditing services. Such information includes; the name and location of the person or company requesting services, the type and location of the product to be inspected, the type of inspection being requested, information that will identify the product or type and scope of audit requested. Upon approval AMS will request a merge for this NEW collection into the currently approved 0581-0125. Merging the Collections will enable the Division to more efficiently manage the collection and prevent duplication of burden.

This is a request for approval and subsequent merger of FV-380 Order Form for USDA SCI Division Inspection Equipment and Miscellaneous Items, FV-387 SCI Alternate Payment Application, and FV-357 Notification of Entry to the information collection. These forms are authorized under the Agricultural Marketing Act of 1946, as amended (7 U.S.C. 1621 et seq.) The FV-380 and FV-387 are used by the Federal, Federal/State partners, and members of the industry to order equipment and other miscellaneous items from SCI Division's supply depot. The FV-357 form is a notification of entry of imported products covered under Section 8e, of the Agricultural Marketing Agreement Act of 1937. This notification of entry form addresses products such as fresh and processed fruits, vegetables, nuts, and specialty crops. It notes the port of entry and the type of inspection (quality and condition) required for the products.

Estimate of Burden: Public reporting burden for this collection of information is estimated to average 5 minutes per response.

Respondents: Federal and State.

Estimated Number of Respondents: 49,892.

Estimated Total Annual Responses: 49,892.

Estimated Number of Responses per Respondent: 1.

Estimated Total Annual Burden on Respondents: 4,156 hours.

(1) Order Form for Equipment and Miscellaneous items (FV-380)

Estimate of Burden: 5 minutes per response.

Respondents: Federal and State.

Estimated Number of Respondents: 584.

Estimated Number of Responses per Respondent: 1.

Estimated Total Annual Burden on Respondents: 48.65 hours

(2) Alternate Payment Application (FV-387):

Estimate of Burden: 5 minutes per response.

Respondents: Federal and State.

Estimated Number of Respondents: 708.

Estimated Number of Responses per Respondent: 1.

Estimated Total Annual Burden on Respondents: 58.98 hours.

(3) Notification of Entry (FV-357):

Estimate of Burden: 5 minutes per response.

Respondents: Federal and State.

Estimated Number of Respondents: 48,600.

Estimated Number of Responses per Respondent: 1.

Estimated Total Annual Burden on Respondents: 4,048.38 hours.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Comments may be sent to ToiAyna Thompson, Management Support Staff, Specialty Crops Inspection Division, Fruit and Vegetable Programs, U.S. Department of Agriculture, STOP 0247, 1400 Independence Ave. SW., telephone: (202) 720-0867 and FAX: (202) 690-3824; or Internet: http://www.regulations.gov. All comments received will be available for public inspection during regular business hours at the same address.

All responses to this notice will be summarized and included in the request for OMB approval. All comments will become a matter of public record.

Dated: July 27, 2015.
Rex A. Barnes,
Associate Administrator.

[FR Doc. 2015-18701 Filed 7-29-15; 8:45 am]

BILLING CODE 3410-02-P